DEPARTMENT OF THE TREASURY

Customs Service

[T.D. 00-69]

Annual User Fee for Customs Broker Permit and National Permit; General Notice

AGENCY: Customs Service, Department of the Treasury.

ACTION: Notice of due date for broker user fee.

SUMMARY: This is to advise Customs brokers that for 2001 the annual user fee of $125 that is assessed for each permit held by an individual, partnership, association or corporate broker is due by January 19, 2001. This announcement is being published to comply with the Tax Reform Act of 1986.

DATES: Due date for fee: January 19, 2001.

FOR FURTHER INFORMATION CONTACT: Michael S. Craig, Broker Management (202) 927-0380.

SUPPLEMENTARY INFORMATION: Section 13031 of the Consolidated Omnibus Budget Reconciliation Act of 1985 (Pub. L. 99-272) established that an annual user fee of $125 is to be assessed for each Customs broker permit and National permit held by an individual, partnership, association, or corporation. This fee is set forth in the Customs Regulations in section 111.96 (19 CFR 111.96).

Customs Regulations provides that this fee is payable for each calendar year in each broker district where the broker was issued a permit to do business by the due date which will be published in the Federal Register annually. Broker districts are defined in the General Notice published in the Federal Register, Volume 60, No.187, September 27, 1995.

Section 1893 of the Tax Reform Act of 1986 (Pub. L. 99-514), provides that notices of the date on which a payment is due of the user fee for each broker permit shall be published by the Secretary of Treasury in the Federal Register by no later than 60 days before such due date.

This document notifies brokers that for 2001, the due date for payment of the user fee is January 19, 2001. It is expected that annual user fees for brokers for subsequent years will be due on or about the twentieth of January of each year.

Dated: October 4, 2000.
Bonni G. Tischler,
Assistant Commissioner, Office of Field Operations.

[FR Doc. 00-25977 Filed 10-10-00; 8:45 am]

BILLING CODE 4820-02-P